DEPARTMENT OF ENERGY

Federal Energy Regulatory Commission

[Docket No. RP03-435-001]

Texas Gas Transmission, LLC formerly Texas Gas Transmission Corporation; Notice of Proposed Changes in FERC Gas Tariff

July 10, 2003).

Take notice that on July 7, 2003, Texas Gas Transmission, LLC (Texas Gas), formerly Texas Gas Transmission Corporation, tendered for filing as part of its FERC Gas Tariff, First Revised Volume No. 1, the tariff sheets listed below to become effective July 1, 2003:

Second Revised Substitute Original Sheet No. 193A

Fourteenth Revised Sheet No. 207

Seventh Revised Sheet No. 207A

Texas Gas states that the tariff sheets filed herewith are being submitted in compliance with the Commission's June 27, 2003, Letter Order (103 FERC ¶ 61,360), which conditionally accepted Texas Gas's previously filed tariff sheets and directed Texas Gas to file revised tariff sheets within 10 days of that Order to address issues discussed within the Order itself.

Texas Gas states that copies of the tariff sheets are being mailed to all parties in this docket, to all parties on Texas Gas's official service list, to Texas Gas's jurisdictional customers and to interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: July 21, 2003.

Magalie R. Salas,
Secretary.

[FR Doc. 03-18032 Filed 7-16-03; 8:45 am]

BILLING CODE 6717-01-P